DEPARTMENT OF ENERGY

Federal Energy Regulatory Commission

[Docket No. IN24-2-000]

American Efficient, LLC; Modern Energy Group LLC; MIH LLC; Midcontinent Energy LLC; Wylan Energy, L.L.C.; Affirmed Energy LLC; Updated Notice of Designation of Commission Staff as Non-Decisional

With respect to an order issued by the Commission on December 16, 2024, in the above-captioned docket, with the exceptions noted below, the staff of the Office of Enforcement are designated as non-decisional in deliberations by the Commission in this docket.¹ Accordingly, pursuant to 18 CFR 385.2202 (2024), they will not serve as advisors to the Commission or take part in the Commission's review of any offer of settlement. Likewise, as non-decisional staff, pursuant to 18 CFR 385.2201 (2024), they are prohibited from communicating with advisory staff concerning any deliberations in this docket.

¹ American Efficient, LLC, Modern Energy Group LLC, MIH LLC, Midcontinent Energy LLC, Wylan Energy, L.L.C., Affirmed Energy LLC, 189 FERC ¶ 61,196 (2024).

Exceptions to this designation as non-decisional are:

Nicholas Stavlas

Michael Raibman

Thomas Olson

Mark Maneche

Yvonne Yegge

Kevin Dinan

Charles Kitcher

Jennifer Gordon

Gareth Jones

Ian McDonald

Sam Malech

Erin Miller

Sara Brehm

Serrita Hill

Steven Bundick

Dated: December 19, 2024.
Debbie-Anne A. Reese,
Secretary.

[FR Doc. 2024-31050 Filed 12-27-24; 8:45 am]

BILLING CODE 6717-01-P